DEPARTMENT OF THE INTERIOR

Fish and Wildlife Service

[FWS-R1-R-2009-N231; 1265-0000-10137-S3]

Columbia National Wildlife Refuge, Adams and Grant Counties, WA; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and a finding of no significant impact for the environmental assessment for Columbia National Wildlife Refuge (NWR/refuge). In this final CCP, we describe how we will manage this refuge for the next 15 years. Implementation of the CCP is subject to the availability of funding and any additional compliance requirements.

ADDRESSES: You may view or obtain copies of the final CCP and finding of no significant impact (FONSI) and environmental assessment (EA) by any of the following methods. You may request a hard copy or CD-ROM.

Refuge Web Site: Download a copy of the document(s) at www.fws.gov/columbia/management.html.

Email: mcriver@fws.gov. Include “Columbia NWR Final CCP” in the subject line of the message.

Mail: U.S. Fish and Wildlife Service, Columbia NWR Final CCP, 64 Maple Street, Burbank, WA 99323.

In-Person Viewing or Pickup: Call (509) 546-8333 to make an appointment during regular business hours at the address above.

Local Library: The document is also available for review at the library listed under SUPPLEMENTARY INFORMATION.

FOR FURTHER INFORMATION CONTACT: Kelly Chase, Refuge Manager, (509) 488-2668 (phone); mcriver@fws.gov (email).

SUPPLEMENTARY INFORMATION:

Introduction

With this notice, we announce the completion of the CCP process for Columbia NWR. We started this process through a notice in the Federal Register (74 FR 25576; May 28, 2009). We released the draft CCP/EA to the public, announcing and requesting comments in a notice of availability in the Federal Register (76 FR 45600; July 29, 2011).

We announce our CCP decision and the availability of a FONSI for Columbia NWR in accordance with the National Wildlife Refuge System Administration Act of 1966 (16 U.S.C. 668dd-668ee) (Refuge Administration Act) and National Environmental Policy Act (NEPA) (40 CFR 1506.6(b)) requirements. We prepared an analysis of environmental impacts, which we included in the EA that accompanied the draft CCP.

The CCP will guide us in managing and administering Columbia NWR for the next 15 years. The selected alternative, as described in the final CCP, is a combination of actions from alternatives 2 and 3 in the draft CCP and is the basis for management direction.

Background

The Refuge Administration Act, as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public, including opportunities for compatible hunting, fishing, wildlife observation and photography, and environmental education and interpretation. We will review and update the CCP at least every 15 years in accordance with the Refuge Administration Act.

Comments

We solicited comments on the draft CCP/EA for the refuge from July 29, 2011, to August 29, 2011 (76 FR 45600). All letters and comments received were thoroughly evaluated and considered in the selection of a final alternative. The only change to the alternatives in the draft CCP was modifying the overnight closure of Morgan Lake Road to allow for access starting 1½ hours before legal hunting time and ending 1½ hours after legal hunting time during State hunting seasons.

Selected Alternative

All actions in the selected alternative are subject to available funding and any other compliance requirements. Under the selected alternative, refuge management will continue much as is, consistent with available funding and staffing, except that 175 acres of emergent marsh wetlands in Marsh Unit III will be converted to riparian habitat, with other wetlands to potentially follow based on the success of the first conversion. The Crab Creek channel will be restored, and stream restoration will be a priority to provide for steelhead and redband trout and improve riparian areas for migrating neotropical birds. Specialized habitats (e.g., rock outcroppings) will receive more planned attention. Grasslands will be maintained to provide for species like the long-billed curlew, and cooperative farming agreements will continue to provide green forage and grains for geese, waterfowl, and Sandhill cranes, while emphasizing low-impact techniques. Habitats will be maintained and protected for loggerhead shrikes, sagebrush lizards, and a variety of raptors. Management of State and Federal species of concern will be emphasized. Refuge lands will continue to be managed using a mix of natural processes and substantial management intervention. For example, many wetland areas are allowed to follow natural succession—although noxious weed control, prescribed fire, and other maintenance actions are undertaken—but several moist soil management areas require water level manipulation, dike maintenance, extensive soil preparation, planting, and other treatments. Land transfers will be pursued to provide continuous blocks of habitats and simplify management.

Public use will be a blend of active and passive. Horseback riding and bicycling will continue, but camping will be eliminated. The Soda Lake Campground will be converted to day-use facilities, and the area around the Bluebird Campground will be available by permit for day use as an educational site. Morgan Lake Road will be closed to overnight travel. Facilities with increased accessibility will be developed to promote compatible hunting and fishing. Waterfowl and big game hunting opportunities will be expanded by opening new areas; providing for additional hunting weapons; and implementing additional youth hunt days, areas, and seasons. The waterfowl hunting lottery will be discontinued in favor of first-come, first-served hunting. A new hiking and interpretive trail will be developed within the Drumheller Channel National Natural Landmark in cooperation with the National Park Service. Seasonal and permanent wildlife observation blinds will be provided. New interpretive and educational programs and brochures will be developed, with an emphasis on building the volunteer program to manage them. The Sandhill Crane Festival will remain a priority. Fish stocking by the Washington Department of Fish and Wildlife will continue, with an approved fisheries management plan, but will be discontinued in lakes where there is the highest likelihood of success for northern leopard frog recovery.

Step-down plans on informational and interpretive signs, cultural resource management, habitat management, and other management areas related to the goals and objectives in this CCP will be developed. Water rights and/or agreements will be pursued to ensure the availability of water for moist soil management.

Public Availability of Documents

In addition to the methods in ADDRESSES, you can view or obtain documents at the following locations:

• Agency Web Site: www.fws.gov/pacific/planning/.

• Public Library: Othello Branch of Mid-Columbia Libraries, 101 East Main Street, Othello, WA 99344; (509) 488-9683.

Dated: November 17, 2011.
Michael Carrier,
Acting Regional Director, Pacific Region, Portland, Oregon.

[FR Doc. 2012-1113 Filed 1-19-12; 8:45 am]

BILLING CODE 4310-55-P